DEPARTMENT OF HEALTH AND HUMAN SERVICES

[Document Identifier: OS-0990-new]

Agency Father Generic Information Collection Request; 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment, Improving Customer Experience (OMB Circular A-11, Section 280 Implementation).

DATES: Comments on the ICR must be received on or before February 20, 2024.

ADDRESSES: Submit your comments to Sherrette.Funn@hhs.gov or by calling (202) 264-0041 and PRA@HHS.GOV.

FOR FURTHER INFORMATION CONTACT: When submitting comments or requesting information, please include the document identifier 0990-New-60D and project title for reference, to Sherrette A. Funn, email: Sherrette.Funn@hhs.gov, PRA@HHS.GOV or call (202) 264-0041 the Reports Clearance Officer.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Improving Customer Experience (OMB Circular A-11, Section 280.

Type of Collection: Father Generic ICR.

OMB No.: 0990-XXXX, Office within Office of the Secretary, Assistant Secretary Administration.

Abstract: The Department of Health and Human Services, Office of the Secretary, Assistant Secretary Administration is requesting approval by OMB on a new Father Generic Information Collection Request. OMB Circular A-11 Section 280 established government-wide standards for mature customer experience organizations in government and measurement. To enable Federal programs to deliver the experience taxpayers deserve, they must undertake three general categories of activities: conduct ongoing customer research, gather and share customer feedback, and test services and digital products.

These data collection efforts may be either qualitative or quantitative in nature or may consist of mixed methods. Additionally, data may be collected via a variety of means, including but not limited to electronic or social media, direct or indirect observation (i.e., in person, video and audio collections), interviews, questionnaires, surveys, and focus groups. HHS will limit its inquiries to data collections that solicit strictly voluntary opinions or responses. Steps will be taken to ensure anonymity of respondents in each activity covered by this request.

The results of the data collected will be used to improve the delivery of Federal services and programs. It will include the creation of personas, customer journey maps, and reports and summaries of customer feedback data and user insights. It will also provide government-wide data on customer experience that can be displayed on performance.gov to help build transparency and accountability of Federal programs to the customers they serve.

Implementation).

Annualized Burden Hour Table
Respondents (if necessary) | Number of respondents | Number of responses per respondents | Average burden hours per response | Total burden hours
Participants in customer interviews | 500 | 1 | 1 | 500
Participants in focus groups | 450 | 1 | 90/60 | 675
Participants of feedback surveys | 2,000,000 | 1 | 3/60 | 100,000
Participants in user testing (rapid) | 400 | 1 | 15/60 | 100
Participants in user testing (deep dive) | 200 | 1 | 30/60 | 100
Total | 2,001,550 |  |  | 101,375

Sherrette A. Funn,
Paperwork Reduction Act Reports Clearance Officer, Office of the Secretary.

[FR Doc. 2023-28283 Filed 12-21-23; 8:45 am]

BILLING CODE 4150-04-P